U.S.-CHINA ECONOMIC AND SECURITY REVIEW COMMISSION

Notice of Open Public Hearing; Correction

AGENCY: U.S.-China Economic and Security Review Commission.

ACTION: Notice of open public hearing—March 26, 2012, Manassas, VA; Correction.

SUMMARY: The U.S.-China Commission published a notice in the Federal Register of March 13, 2012, concerning a public hearing on March 26, 2012. The document listed an incorrect Co-Chairman for the hearing.

FOR FURTHER INFORMATION CONTACT: Tim Lipka (202) 624-1407.

Correction

In the Federal Register of March 13, 2012, in FR Doc. 2012-5959, on page 14860, in the first column, line 9 should read:

“Wortzel and Jeffery Fiedler. Any”

Dated: March 15, 2012.
Michael Danis,
Executive Director, U.S.-China Economic and Security Review Commission.

[FR Doc. 2012-6740 Filed 3-20-12; 8:45 am]

BILLING CODE 1137-00-P